DEPARTMENT OF AGRICULTURE

Animal and Plant Health Inspection Service

7 CFR Parts 300, 301, 318, 319, 330, 340, and 355

[Docket No. APHIS-2018-0070]

Subpart Nomenclature Change

AGENCY: Animal and Plant Health Inspection Service, USDA.

ACTION: Final rule.

SUMMARY: This rule contains formatting changes to subpart references to bring the headings into conformance with the Office of Federal Register requirements. In addition, we are updating authority citations and making minor editorial changes to the regulations.

DATES: Effective February 7, 2019.

FOR FURTHER INFORMATION CONTACT: For information about this final rule, please contact Ms. Charisse Cleare, Regulatory Analysis and Development, PPD, APHIS, 4700 River Road, Unit 118, Riverdale, MD 20737; (301) 851-2037.

SUPPLEMENTARY INFORMATION: This document makes nomenclature changes to subpart headings in 7 CFR parts 300, 301, 318, 319, 330, 340, and 355 to bring the headings into conformance with the Office of the Federal Register (OFR) requirements. These changes will ensure that all subheadings in the listed parts of title 7 are consistent with OFR nomenclature and formatting conventions. We are also making related changes within the regulations where subparts are referenced.

Miscellaneous

In addition to the changes set forth above, we are updating the authority citations for parts 319 and 330 to reflect a U.S. Code citation that has been redesignated. In the authority citations for parts 319 and 330, 7 U.S.C. 450 will be changed to 7 U.S.C. 1633.

Lastly, we are redesignating footnote 4 as footnote 3 in § 319.75-7. In an interim rule published in the Federal Register on December 29, 2014, (79 FR 77839-77841), we removed footnote 3 from § 319.75-2. When we removed footnote 3, we should have redesignated footnote 4 as footnote 3. In this document, we are making that change.

Effective Date

This rule relates to internal agency management and makes various nonsubstantive changes to the regulations in title 7, Code of Federal Regulations to reflect minor edits, updates to authority citations, and formatting changes to bring language into conformance with the Office of Federal Register requirements. Because the changes contained in this rule are nonsubstantive in nature, notice and other public procedure on this rule are unnecessary and contrary to the public interest. Therefore, pursuant to 5 U.S.C. 553, notice of proposed rulemaking and opportunity to comment are not required, and this rule may be made effective less than 30 days after publication in the Federal Register. Further, since this rule relates to internal agency management, it is exempt from the provisions of Executive Orders 12866, 12988, and 13771. Finally, this action is not a rule as defined by the Regulatory Flexibility Act (5 U.S.C. 501) and, thus, is exempt from the provisions of that Act.

Paperwork Reduction Act

This final rule contains no new reporting, recordkeeping, or third party disclosure requirements under the Paperwork Reduction Act of 1995 (44 U.S.C. 3501 et seq.).

List of Subjects

7 CFR Part 300

Plant diseases and pests, Quarantine.

7 CFR Part 301

Agricultural commodities, Plant diseases and pests, Quarantine, Reporting and recordkeeping requirements, Transportation.

7 CFR Part 318

Cotton, Cottonseeds, Fruits, Guam, Plant diseases and pests, Puerto Rico, Quarantine, Transportation, Vegetables, Virgin Islands.

7 CFR Part 319

Coffee, Cotton, Fruits, Honey, Imports, Plants for Planting, Plant diseases and pests, Plants, Quarantine, Reporting and recordkeeping requirements, Rice, Sugar, Vegetables.

7 CFR Part 330

Customs duties and inspection, Plant diseases and pests, Quarantine, Reporting and recordkeeping requirements, Transportation.

7 CFR Part 340

Administrative practice and procedure, Packaging and containers, Plant diseases and pests, Reporting and recordkeeping requirements, Transportation.

7 CFR Part 355

Endangered and threatened species, Exports, Law enforcement, Plants, Reporting and recordkeeping requirements.

Accordingly, we are amending 7 CFR parts 300, 301, 318, 319, 330, 340, and 355 as follows:

PART 300—INCORPORATION BY REFERENCE

1. The authority citation for part 300 continues to read as follows:

Authority: 7 U.S.C. 7701-7772 and 7781-7786; 7 CFR 2.22, 2.80, and 371.3.

§ 300.2 [Amended]

2. In § 300.2, paragraph (b) is amended by removing the words “Subpart—Logs, Lumber, and Other Unmanufactured Wood Articles” and adding the words “Subpart I—Logs, Lumber, and Other Wood Articles” in their place.

PART 301—DOMESTIC QUARANTINE NOTICES

3. The authority citation for part 301 continues to read as follows:

Authority: 7 U.S.C. 7701-7772 and 7781-7786; 7 CFR 2.22, 2.80, and 371.3.

Section 301.75-15 issued under Sec. 204, Title II, Public Law 106-113, 113 Stat. 1501A-293; sections 301.75-15 and 301.75-16 issued under Sec. 203, Title II, Public Law 106-224, 114 Stat. 400 (7 U.S.C. 1421 note).

[Subpart Redesignated as Subpart A]

4. Redesignate “Subpart—Preemption and Special Need Requests” as “Subpart A—Preemption and Special Need Requests”.

[Subpart Redesignated as Subpart B]

5. Redesignate “Subpart—Imported Plants and Plant Parts” as “Subpart B—Imported Plants and Plant Parts”.

[Subpart Redesignated as Subpart C]

6. Redesignate “Subpart—Fruit Flies” as “Subpart C—Fruit Flies”.

[Subpart Redesignated as Subpart D]

7. Redesignate “Subpart—Black Stem Rust” as “Subpart D—Black Stem Rust”.

[Subpart Redesignated as Subpart E]

8. Redesignate “Subpart—Gypsy Moth” as “Subpart E—Gypsy Moth”.

[Subpart Redesignated as Subpart F]

9. Redesignate “Subpart—Japanese Beetle” as “Subpart F—Japanese Beetle”.

[Subpart Redesignated as Subpart G]

10. Redesignate “Subpart—Pine Shoot Beetle” as Subpart G—Pine Shoot Beetle”.

[Subpart Redesignated as Subpart H]

11. Redesignate “Subpart—Asian Longhorned Beetle” as “Subpart H—Asian Longhorned Beetle”.

[Subpart Redesignated as Subpart I]

12. Redesignate “Subpart—Pink Bollworm” as “Subpart I—Pink Bollworm”.

[Subpart Redesignated as Subpart J]

13. Redesignate “Subpart—Emerald Ash Borer” as “Subpart J—Emerald Ash Borer”.

[Subpart Redesignated as Subpart K]

14. Redesignate “Subpart—South American Cactus Moth” as “Subpart K—South American Cactus Moth”.

[Subpart Redesignated as Subpart L]

15. Redesignate “Subpart—Plum Pox” as “Subpart L—Plum Pox”.

[Subpart Redesignated as Subpart M]

16. Redesignate “Subpart—Citrus Canker” as “Subpart M—Citrus Canker”.

[Subpart Redesignated as Subpart N]

17. Redesignate “Subpart—Citrus Greening and Asian Citrus Psyllid” as “Subpart N—Citrus Greening and Asian Citrus Psyllid”.

[Subpart Redesignated as Subpart O]

18. Redesignate “Subpart—Witchweed” as “Subpart O—Witchweed”.

[Subpart Redesignated as Subpart P]

19. Redesignate “Subpart—Imported Fire Ant” as “Subpart P—Imported Fire Ant”.

[Subpart Redesignated as Subpart Q]

20. Redesignate “Subpart—Unshu Oranges [Reserved]” as “Subpart Q—Unshu Oranges [Reserved]”.

[Subpart Redesignated as Subpart R]

21. Redesignate “Subpart—Golden Nematode” as “Subpart R—Golden Nematode”.

[Subpart Redesignated as Subpart S]

22. Redesignate “Subpart—Pale Cyst Nematode” as “Subpart S—Pale Cyst Nematode”.

[Subpart Redesignated as Subpart T]

23. Redesignate “Subpart—Sugarcane Diseases” as “Subpart T—Sugarcane Diseases”.

[Subpart Redesignated as Subpart U]

24. Redesignate “Subpart—Karnal Bunt” as “Subpart U—Karnal Bunt”.

[Subpart Redesignated as Subpart V]

25. Redesignate “Subpart—Corn Cyst Nematode [Reserved]” as “Subpart V—Corn Cyst Nematode [Reserved]”.

[Subpart Redesignated as Subpart W]

26. Redesignate “Subpart—European Larch Canker” as “Subpart W—European Larch Canker”.

[Subpart Redesignated as Subpart X]

27. Redesignate “Subpart—Phytophthora Ramorum” as “Subpart X—Phytophthora Ramorum”.

PART 318—STATE OF HAWAII AND TERRITORIES QUARANTINE NOTICES

28. The authority citation for part 318 continues to read as follows:

Authority: 7 U.S.C. 7701-7772 and 7781-7786; 7 CFR 2.22, 2.80, and 371.3.

[Subpart Redesignated as Subpart A]

29. Redesignate “Subpart—Regulated Articles From Hawaii and the Territories” as “Subpart A—Regulated Articles From Hawaii and the Territories”.

30. In § 318.13-1, paragraph (b) is revised to read as follows:

§ 318.13-1 Notice of quarantine.

* * * * *

(b) The Secretary has determined that it is necessary to prohibit the interstate movement of cut flowers and fruits and vegetables and plants and portions of plants from Hawaii, Puerto Rico, the U.S. Virgin Islands, Guam, and the Commonwealth of the Northern Mariana Islands except as provided in this subpart or as provided in “Subpart B—Territorial Cotton, Cottonseed, and Cottonseed Products” and “Subpart C—Sand, Soil, or Earth, with Plants from Territories and Districts” in this part.

§ 318.13-6 [Amended]

31. In § 318.13-6, paragraph (m) is amended by removing the words “Subpart—Fruits and Vegetables” and adding the words “Subpart L—Fruits and Vegetables” in their place.

[Subpart Redesignated as Subpart B]

32. Redesignate “Subpart—Territorial Cotton, Cottonseed, and Cottonseed Products” as “Subpart B—Territorial Cotton, Cottonseed, and Cottonseed Products”.

[Subpart Redesignated as Subpart C]

33. Redesignate “Subpart—Sand, Soil, or Earth, with Plants from Territories and Districts” as “Subpart C—Sand, Soil, or Earth, with Plants from Territories and Districts”.

PART 319—FOREIGN QUARANTINE NOTICES

34. The authority citation for part 319 is revised to read as follows:

Authority: 7 U.S.C. 1633, 7701-7772, and 7781-7786; 21 U.S.C. 136 and 136a; 7 CFR 2.22, 2.80, and 371.3.

[Subpart Redesignated as Subpart A]

35. Redesignate “Subpart—Preemption” as “Subpart A—Preemption”.

[Subpart Redesignated as Subpart B]

36. Redesignate “Subpart—Requests to Amend the Regulations” as “Subpart B—Requests to Amend the Regulations”.

[Subpart Redesignated as Subpart C]

37. Redesignate “Subpart—Controlled Import Permits” as “Subpart C—Controlled Import Permits”.

[Subpart Redesignated as Subpart D]

38. Redesignate “Subpart—Permits: Application, Issuance, Denial, and Revocation” as “Subpart D—Permits: Allocation, Issuance, Denial, and Revocation”.

[Subpart Redesignated as Subpart E]

39. Redesignate “Subpart—Foreign Cotton and Covers” as “Subpart E—Foreign Cotton and Covers”.

§ 319.8 [Amended]

40. In § 319.8, paragraph (b) is amended by removing the words “Subpart—Plants for Planting” and adding the words “Subpart H—Plants for Planting” in their place.

[Subpart Redesignated as Subpart F]

41. Redesignate “Subpart—Sugarcane” as “Subpart F—Sugarcane”.

§ 319.15 [Amended]

42. In § 319.15, paragraph (b) is amended by removing the words “Subpart—Plants for Planting” and adding the words “Subpart H—Plants for Planting” in their place.

[Subpart Redesignated as Subpart G]

43. Redesignate “Subpart—Corn Diseases” as “Subpart G—Corn Diseases”.

§ 319.24 [Amended]

44. In § 319.24, paragraph (b) is amended by removing the words “Subpart—Plants for Planting” and adding the words “Subpart H—Plants for Planting” in their place.

[Subpart Redesignated as Subpart H]

45. Redesignate “Subpart—Plants for Planting” as “Subpart H—Plants for Planting”.

[Subpart Redesignated as Subpart I]

46. Redesignate “Subpart—Logs, Lumber, and Other Wood Articles” as “Subpart I—Logs, Lumber, and Other Wood Articles”.

§ 319.40-2 [Amended]

47. In § 319.40-2, paragraph (c) is amended by removing the words “Subpart—Plants for Planting” and adding the words “Subpart H—Plants for Planting” in their place, and removing the words “Subpart—Fruits and Vegetables” and adding the words “Subpart L—Fruits and Vegetables” in their place.

§ 319.40-9 [Amended]

48. In § 319.40-9, footnote 2 is amended by removing the words “Subpart—Fruits and Vegetables” and adding the words “Subpart L—Fruits and Vegetables” in their place.

[Subpart Redesignated as Subpart J]

49. Redesignate “Subpart—Indian Corn or Maize, Broomcorn, and Related Plants” as “Subpart J—Indian Corn or Maize, Broomcorn, and Related Plants”.

§ 319.41 [Amended]

50. In § 319.41, paragraph (d) is amended by removing the words “Subpart—Plants for Planting” and adding the words “Subpart H—Plants for Planting” in their place.

[Subpart Redesignated as Subpart K]

51. Redesignate “Subpart—Rice” as “Subpart K—Rice”.

§ 319.55 [Amended]

52. In § 319.55, paragraph (d) is amended by removing the words “Subpart—Plants for Planting” and adding the words “Subpart H—Plants for Planting” in their place.

[Subpart Redesignated as Subpart L]

53. Redesignate “Subpart—Fruits and Vegetables” as “Subpart L—Fruits and Vegetables”.

[Subpart Redesignated as Subpart M]

54. Redesignate “Subpart—Wheat Diseases” as “Subpart M—Wheat Diseases”.

§ 319.59-2 [Amended]

55. In § 319.59-2, paragraph (c) is amended by removing the words “Subpart—Plants for Planting” and adding the words “Subpart H—Plants for Planting” in their place.

[Subpart Redesignated as Subpart N]

56. Redesignate “Subpart—Packing Materials” as “Subpart N—Packing Materials”.

[Subpart Redesignated as Subpart O]

57. Redesignate “Subpart—Coffee” as “Subpart O—Coffee”.

§ 319.73-2 [Amended]

58. In § 319.73-2, paragraph (b) is amended by removing the words “Subpart—Plants for Planting” and adding the words “Subpart H—Plants for Planting” in their place.

[Subpart Redesignated as Subpart P]

59. Redesignate “Subpart—Cut Flowers” as “Subpart P—Cut Flowers”.

[Subpart Redesignated as Subpart Q]

60. Redesignate “Subpart—Khapra Beetle” as “Subpart Q—Khapra Beetle”.

§ 319.75-2 [Amended]

61. In § 319.75-2, footnote 1 is amended by removing the words “Subpart—Fruits and Vegetables” and adding the words “Subpart L—Fruits and Vegetables” in their place and by removing the words “Subpart—Plants for Planting” and adding the words “Subpart H—Plants for Planting” in their place.

§ 319.75-7 [Amended]

62. Section 319.75-7 is amended by redesignating footnote 4 as footnote 3.

[Subpart Redesignated as Subpart R]

63. Redesignate “Subpart—Gypsy Moth Host Material from Canada” as “Subpart R—Gypsy Moth Host Material from Canada”.

§ 319.77-4 [Amended]

64. In § 319.77-4, footnotes 1 and 2 are amended by removing the words “Subpart—Logs, Lumber, and Other Unmanufactured Wood Articles” and adding the words “Subpart I—Logs, Lumber, and Other Wood Articles” in their place.

PART 330—FEDERAL PLANT PEST REGULATIONS; GENERAL; PLANT PESTS; SOIL, STONE, AND QUARRY PRODUCTS; GARBAGE

65. The authority citation for part 330 is revised to read as follows:

Authority: 7 U.S.C. 1633, 7701-7772, 7781-7786, and 8301-8317; 21 U.S.C. 136 and 136a; 31 U.S.C. 9701; 7 CFR 2.22, 2.80, and 371.3.

[Subpart Redesignated as Subpart A]

66. Redesignate “Subpart—General Provisions” as “Subpart A—General Provisions”.

[Subpart Redesignated as Subpart B]

67. Redesignate “Subpart—Movement of Plant Pests” as “Subpart B—Movement of Plant Pests”.

[Subpart Redesignated as Subpart C]

68. Redesignate “Subpart—Movement of Soil, Stone, and Quarry Products” as “Subpart C—Movement of Soil, Stone, and Quarry Products”.

[Subpart Redesignated as Subpart D]

69. Redesignate “Subpart—Garbage” as “Subpart D—Garbage”.

PART 340—INTRODUCTION OF ORGANISMS AND PRODUCTS ALTERED OR PRODUCED THROUGH GENETIC ENGINEERING WHICH ARE PLANT PESTS OR WHICH THERE IS REASON TO BELIEVE ARE PLANT PESTS

70. The authority citation for part 340 continues to read as follows:

Authority: 7 U.S.C. 7701-7772 and 7781-7786; 31 U.S.C. 9701; 7 CFR 2.22, 2.80, and 371.3.

§ 340.0 [Amended]

71. In § 340.0, footnote 1 is amended by removing the words “Subpart—Plants for Planting” and adding the words “Subpart H—Plants for Planting” in their place.

PART 355—ENDANGERED SPECIES REGULATIONS CONCERNING TERRESTRIAL PLANTS

72. The authority citation for part 355 continues to read as follows:

Authority: 16 U.S.C. 1532, 1538, and 1540; 7 CFR 2.22, 2.80, and 371.3.

[Subpart Redesignated as Subpart A]

73. Redesignate “Subpart—Purpose and Definitions” as “Subpart A—Purpose and Definitions”.

[Subpart Redesignated as Subpart B]

74. Redesignate “Subpart—Permission to Engage in Business” as “Subpart B—Permission to Engage in Business”.

[Subpart Redesignated as Subpart C]

75. Redesignate “Subpart—Inspections and Related Provisions” as “Subpart C—Inspections and Related Provisions”.

Done in Washington, DC, this 30th day of January 2019.
Kevin Shea,
Administrator, Animal and Plant Health Inspection Service.

[FR Doc. 2019-01142 Filed 2-6-19; 8:45 am]

BILLING CODE 3410-34-P